Title 3—

The President

Executive Order 14127 of September 26, 2024

Combating Emerging Firearms Threats and Improving School-Based Active-Shooter Drills

By the authority vested in me as President by the Constitution and the laws of the United States of America, it is hereby ordered as follows:

Section 1. Policy. During 2020, the last year of the prior administration, homicides in the Nation increased nearly 30 percent over the previous year—the largest 1-year increase in murders ever recorded. After that, the Vice President and I took action to reduce gun crime and other forms of violent crime. By the middle of 2022, we had already taken more executive action to reduce gun violence than any other administration at that point in time. On June 25, 2022, I signed into law the Bipartisan Safer Communities Act (Public Law 117-159)—the most significant new gun violence prevention law in nearly 30 years. Rates of homicide in the United States are falling at one of the fastest rates ever recorded. Year-over-year comparison shows that 2023 had one of the largest declines in the homicide rate in recent history. This life-saving progress has continued in 2024. While we have made great progress, much more work remains to be done to reduce gun violence and save lives.

It is the policy of my Administration to coordinate across executive departments and agencies (agencies) to reduce gun violence and save lives. This order directs enhanced coordination for two key challenges: combating emerging firearms threats and understanding and improving school-based active-shooter drills.

One way to continue the progress on reducing gun violence is to stay ahead of emerging violent crime threats involving firearms. My Administration has always taken these threats seriously. In April 2021, one of my Administration's first executive actions to reduce gun violence was directed at stopping the proliferation of firearms without serial numbers, often referred to as “ghost guns.” To expand these efforts, the Bureau of Alcohol, Tobacco, Firearms, and Explosives (ATF) of the Department of Justice established an Emerging Threats Center, which focuses ATF's resources on identifying developments in illicit firearm marketplaces, including the use of new technologies to make and unlawfully distribute undetectable firearms and devices that convert semiautomatic firearms into illegal machineguns. The Vice President and I strongly disagreed with the Supreme Court's decision to strike down an important gun safety regulation on bump stocks—the device used in the shooting at a crowded music festival in Las Vegas—and called on the Congress to clarify that this dangerous accessory is a machinegun.

The Court's decision addressing bump stocks did not alter the statutory prohibition on machinegun conversion devices, which are prohibited for non-governmental possession even when not installed on a firearm. The threat posed by the continued proliferation of these devices is particularly acute. These devices enable semiautomatic firearms, including easily concealable handguns, to match or exceed the rate of fire of many military machineguns with a single engagement of the trigger—up to 20 bullets in one second and 1,200 rounds in one minute. From 2017 through 2021, ATF recovered 5,454 of these devices—a 570 percent increase over the previous 5-year period. These devices are often illegally imported or illegally made on a 3D printer.

Unserialized, 3D printed firearms—which can be used for illicit purposes such as gun trafficking, possession by people convicted of felonies or subject to domestic violence restraining orders, or unlawful engagement in the business of manufacturing or selling firearms—are another emerging threat. These firearms can be 3D printed from computer code downloaded from the internet and produced without serial numbers, which law enforcement uses to trace firearms recovered in criminal investigations. Some 3D printed firearms can be rendered undetectable by magnetometers used to secure airports, courthouses, and certain events. 3D printing technology is developing quickly, which can cause the safety threat of 3D printed firearms to suddenly increase.

In addition to the threat of domestic crime, these emerging firearms threats pose a significant risk to the national security and foreign policy interests of the United States. Many foreign countries have heavily regulated automatic weapons and 3D printed and undetectable firearms. The wide availability of these emerging firearms threats would undermine other nations' gun laws and the safety and security of our allies. Technical data and software for 3D printed firearms and machinegun conversion devices can be used by international gangs, criminals, and terrorists in a manner contrary to United States national security and foreign policy interests.

Multiple agencies have the authority to help stop the proliferation of these emerging threats, and it is the policy of the United States to work collectively across agencies to identify threats, engage in information sharing, and work together to develop and implement effective strategies to combat these threats. Authorities that can address emerging firearms threats extend beyond the Gun Control Act (Public Law 90-618) and the National Firearms Act (Public Law 73-474). Focused and enhanced coordination is needed to ensure a unified and robust strategy for enforcing existing legal authorities and using every available tool and resource. This interagency effort will build on the life-saving work that has occurred to date to stop the proliferation of machinegun conversion devices, including the ongoing efforts at the Department of Justice and ATF.

My Administration also has invested significant resources in school safety and has taken steps to keeps firearms out of schools. These steps have focused on preventing unauthorized access to firearms for youth and individuals in crisis; supporting schools that are implementing evidence-based safety and gun-violence prevention and intervention solutions; and addressing the mental health needs of students, particularly those impacted by gun violence.

Keeping students and educators, including teachers and other school personnel, safe from gun violence in their schools is a top priority for my Administration, but there is more to do to make our schools safer. Since the mass shooting at Columbine High School in Colorado in 1999, according to one analysis, there have been more than 400 school shootings that exposed more than 375,000 students to gun violence. Exposure to school shootings takes a terrible toll on students and educators. A nationally representative study found that 51 percent of 14- to 17-year-olds in the United States worry about school shootings.

The majority of States require schools to conduct active-shooter drills for students and educators. About 95 percent of K-12 public schools in the United States conduct lockdown drills, which include drills to prepare for an active-shooter situation. These drills vary widely in their approach, and many parents, students, and educators have expressed concerns over the effectiveness of and trauma caused by some approaches to these drills.

Despite their ubiquity, there is very limited research on how to design and deploy these drills to maximize their effectiveness and minimize any collateral harms they might cause. While additional research is ongoing, it is difficult to conclusively determine which specific practices are most effective in preparing schools for active-shooter incidents, preventing injuries and fatalities, and minimizing any associated psychological impacts or traumas. The Department of Justice, the Department of Health and Human Services, the Department of Education, and the Department of Homeland Security continue to work together on a range of school safety issues, including the beginnings of research into these important questions. It is time for these agencies to extend their efforts to help schools better design and conduct effective and age- and developmentally appropriate active-shooter drills.

Sec. 2. Definitions. For purposes of this order:

(a) The term “machinegun” has the meaning given by 18 U.S.C. 921(a)(24) and 26 U.S.C. 5845(b), and includes a “machinegun conversion device,” which is any part designed and intended solely and exclusively, or combination of parts designed and intended, for use in converting a weapon into a machinegun.

(b) The term “undetectable firearm” means a firearm as proscribed by 18 U.S.C. 922(p).

(c) The term “3D printing” refers to the additive manufacturing process, during which producers transmit digital designs to 3D printers. The computerized design guides the fabrication of products, building them up layer by layer rather than cutting away from a large block of existing material as in most traditional manufacturing. This term includes additive manufacturing technology used to produce a firearm, firearm frame or receiver, or machinegun conversion device.

Sec. 3. Combating Emerging Firearms Threats. (a) There is hereby established an interagency Emerging Firearms Threats Task Force (Task Force). The Task Force shall be chaired by the Director of the Office of Gun Violence Prevention. In addition to the Chair, the Task Force shall consist of the following members:

(i) the Secretary of State;

(ii) the Attorney General;

(iii) the Secretary of Commerce;

(iv) the Secretary of Homeland Security;

(v) the Director of the Office of Management and Budget;

(vi) the Director of the Office of Science and Technology Policy;

(vii) the Assistant to the President and Homeland Security Advisor;

(viii) the Counsel to the President;

(ix) the Assistant to the President and Director of the Domestic Policy Council;

(x) the Deputy Assistant to the President and Domestic Policy Advisor to the Vice President; and

(xi) the heads of such other agencies and offices as the Chair may from time to time invite to participate.

(b) Within 90 days of the date of this order, the Task Force shall submit to the President, through the Director of the Office of Gun Violence Prevention, a report containing a risk assessment and strategy to stop the proliferation of machinegun conversion devices, with a particular emphasis on the devices used to convert a standard, semiautomatic firearm to a machinegun. The risk assessment and strategy shall include:

(i) information regarding the use, recovery, origins, and distribution channels of machinegun conversion devices, including:

(A) the software or technology used for 3D printing machinegun conversion devices; and

(B) the origins of machinegun conversion devices that are seized at ports of entry, illegally imported into the United States, or otherwise recovered by law enforcement agencies in the United States;

(ii) an assessment of existing applicable legal authorities of the agencies represented on the Task Force and other agencies identified at the direction of the Chair to regulate software or technology used to make machinegun conversion devices, which shall include a review of export and import laws;

(iii) an assessment of the technological and legal feasibility of 3D printing companies designing 3D printers that block the functional capacities of software that can 3D print machinegun conversion devices;

(iv) an assessment of the operational capabilities and legal authorities of agencies to detect, intercept, and seize machinegun conversion devices that are illegally imported or illegally produced domestically, including through 3D printing;

(v) an interagency plan for expanding U.S. Customs and Border Protection initiatives with Federal, State, Tribal, and local law enforcement to stop the flow into the United States of machinegun conversion devices;

(vi) an interagency plan for seizing as criminal instrumentalities 3D printers that are acquired for the purpose of illegally making machinegun conversion devices and recommendations for additional administrative actions necessary to facilitate such seizure;

(vii) an interagency plan for expanding partnerships with State, Tribal, and local law enforcement for Federal training on identifying machinegun conversion devices, tracing the firearms to which they were attached, and submitting seizure data to ATF;

(viii) an interagency plan—with input from 3D data providers, technology companies, and civil society—for voluntary, regulatory, and international mechanisms to limit the availability on the internet of files used for the purpose of unlawfully producing machinegun conversion devices;

(ix) an interagency plan for effective coordination to limit the illegal export and import of software or technology on the internet that can be readily used to 3D print machinegun conversion devices; and

(x) recommendations for any additional authorities or funding agencies need from the Congress to more effectively address the proliferation of machinegun conversion devices.

(c) Within 90 days of the date of this order, the Task Force shall submit to the President, through the Director of the Office of Gun Violence Prevention, a report containing a risk assessment and strategy to address the emerging threat related to 3D printed firearms, including unserialized or undetectable 3D printed firearms. The risk assessment and strategy shall include:

(i) information regarding the usage, recovery, origins, and distribution channels of 3D printed unserialized firearms and 3D printed undetectable firearms, including the software or technology used for 3D printing unserialized firearms or undetectable firearms;

(ii) an assessment of how 3D printing of firearms can facilitate violation of the Undetectable Firearms Act (18 U.S.C. 922(p));

(iii) an assessment of existing authorities, including export and import laws, that regulate software or technology used for 3D printing firearms, including undetectable firearms;

(iv) an assessment of the technological feasibility of 3D printers proactively blocking the functional capacities of software used to 3D print undetectable firearms;

(v) an interagency plan for seizing as criminal instrumentalities 3D printers acquired for the purpose of illegally producing or dealing in firearms, including unserialized or undetectable firearms, or for the purpose of producing firearms for criminal purposes, and recommendations for additional administrative actions that may be necessary to facilitate such seizures;

(vi) an interagency plan for effective coordination between the Department of Justice and the Department of Commerce to limit the illegal export or import of software or technology on the internet that can be readily used to illegally 3D print firearms, including unserialized or undetectable firearms;

(vii) an interagency plan for expanding partnerships with Federal, State, Tribal, and local law enforcement to train them on identifying undetectable or unserialized firearms made with 3D printing software or technology and reporting recoveries of such firearms to ATF; and

(viii) recommendations for any additional authorities or funding the agencies need from the Congress to more effectively address the problem of 3D printed firearms, including unserialized or undetectable firearms.

(d) The Task Force shall be responsible for interagency coordination necessary to facilitate agencies' implementation of the recommendations and strategies in the reports described in subsections (b) and (c) of this section.

(e) At the direction of the Chair, the Task Force may coordinate interagency efforts to address additional emerging firearms threats.

Sec. 4. Understanding and Improving School-Based Active-Shooter Drills. (a) Within 110 days of the date of this order, the Secretary of Education and the Secretary of Homeland Security, in coordination with the Attorney General, the Secretary of Health and Human Services, and the Surgeon General, shall develop and publish information about school-based active-shooter drills for schools, including institutions of higher education, and for State, Tribal, and local educational agencies. Such information shall include:

(i) a summary of existing research and recommendations on active-shooter drills, including information on:

(A) how educators can collaborate within schools—as well as with families; communities; State, Tribal, and local law enforcement; and other emergency response officials—to implement drills that effectively prepare a response to school-based active-shooter situations, including by accounting for the particular needs of educators and students with disabilities; sharing evidence-informed age- and developmentally appropriate practices, such as those that prevent or limit trauma and psychological harm to those participating in drills; and facilitating effective and timely communication with students, educators, first responders, family members, and other relevant stakeholders; and

(B) how schools must comply with Federal civil rights laws prohibiting discrimination on the basis of race, color, national origin, sex, and disability when creating, implementing, and evaluating active-shooter drills, including by effectively serving educators and students with disabilities as well as ensuring that communications with educators and students consider their language-related needs (e.g., communicating in a manner and language that educators and students are able to understand); and

(ii) resources on school-based active-shooter drills, including information on:

(A) the types of drills that may be appropriate to prepare students and educators for school-based active-shooter situations; and

(B) how to create, implement, and evaluate evidence-informed, effective, and age- and developmentally appropriate school-based drills, including:

(1) how best to engage with students, family members, educators, law enforcement, and other relevant stakeholders on the process for creating, implementing, and evaluating these drills;

(2) how best to communicate with students, family members, educators, and other relevant stakeholders before, during, and after the drill, including through the use of notification plans for students, educators, parents, and other parties;

(3) how to prevent or limit trauma or psychological distress associated with active-shooter drills and support students and educators who may experience such trauma or psychological distress; and

(4) how best to serve people with disabilities and those with unique language-related needs.

(b) Within 110 days of the date of this order, the Secretary of Education and the Secretary of Homeland Security, in coordination with the Attorney General, the Secretary of Health and Human Services, and the Surgeon General, shall develop and publish information on recommended areas for future research that can help inform policymakers, educators, students, parents, and other relevant stakeholders about different types of school-based active-shooter drills, the appropriate frequency of such drills, and the effects of such drills on students and educators. This information shall include potential funding sources that could help advance research on, and inform improvements to, active-shooter drills.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 26, 2024.

[FR Doc. 2024-22938

Filed 10-1-24; 11:15 am]

Billing code 3395-F4-P